DEPARTMENT OF AGRICULTURE

Commodity Credit Corporation

7 CFR Parts 1411, 1439, 1447, 1464, 1469, 1476, 1477, 1478 and 1479

Farm Service Agency

7 CFR Parts 759, 777, and 783

RIN 0560-AH04

Removal of Obsolete Regulations

AGENCY: Commodity Credit Corporation; Farm Service Agency, USDA.

ACTION: Final rule.

SUMMARY: This action removes regulations rendered obsolete by expiration of their statutory authority and the ending of their respective programs. There are no impacts on past or current program operations.

EFFECTIVE DATE: October 28, 2003.

FOR FURTHER INFORMATION CONTACT: Tom Witzig, Director, Regulatory Review Group, Farm Service Agency, USDA, STOP 0540, 1400 Independence Avenue, SW., Washington, DC 20250-0540; Telephone: (202) 205-5851; e-mail: tom.witzig@usda.gov.

SUPPLEMENTARY INFORMATION:

Discussion of Final Rule

This rule removes regulations rendered obsolete by expiration of their statutory authority and the ending of their respective programs. Removal of the regulations will not impact any remaining disputes, issues or other matters regarding those programs, and the removed regulations remain in effect for such matters. The regulations being removed are:

7 CFR Part 759—Small Hog Operation Program

The Small Hog Operation Program was established to provide benefits to hog producers under clause (3) of section 32 of the Act of August 24, 1935 (7 U.S.C. 612c). The program was implemented during calendar year 1998 for small hog producers who marketed hogs during the period July 1, 1998, through December 31, 1998.

7 CFR Part 777—Disaster Payment Program for 1990-Crop Sugarcane, Sugar Beets, Soybeans and Peanuts

The Disaster Payment Program for 1990-Crop Sugarcane, Sugar Beets, Soybeans and Peanuts was authorized by section 201(k) of the Agricultural Act of 1949, as amended (7 U.S.C. 1446), and the Dire Emergency Supplemental Appropriations Act for Fiscal Year 1990 (Pub. L. 101-302; 104 Stat. 213). The program provided assistance to producers who suffered a loss of production of their 1990 crop as a result of a natural disaster in 1989.

7 CFR Part 783-1997 Tree Assistance Program

The Tree Assistance Program was authorized by the Act Making Emergency Supplemental Appropriations for Recovery from Natural Disasters for the Fiscal Year Ending September 30, 1997 (Pub. L 105-18; 111 Stat. 158). The program provided assistance to owners of trees damaged by natural disasters occurring from October 1, 1996, through September 30, 1997.

7 CFR Part 1411—Oilseeds Program

The Oilseeds Program was authorized by section 202 of the Agricultural Risk Protection Act of 2000 (Public Law 106-224; 114 Stat. 358). The program made payments to producers who planted eligible oilseeds in 2000.

7 CFR Part 1439—Livestock Assistance, Subpart C—Livestock Indemnity Program; Subpart E—Livestock Indemnity Program for Contract Growers; and Subpart I—American Indian Livestock Feed Program

Subpart C—Livestock Indemnity Program

The Livestock Indemnity Program for 2000 was authorized by sections 802, 806 and 813 of the Agriculture, Rural Development, Food and Drug Administration, and Related Agencies Appropriations Act, 2001 (Pub. L. 106-387, 114 Stat. 1549). The program provided assistance to producers for livestock losses occurring in the period beginning on January 1, 2000, and ending on December 31, 2000.

Subpart E—Livestock Indemnity Program for Contract Growers

The Livestock Indemnity Program for Contract Growers was authorized by title I of the Consolidated Appropriations Act, 2000 (Pub. L. 106-113, 113 Stat. 1501), which provided an additional $10 million for the livestock assistance authorized by the Agriculture, Rural Development, Food and Drug Administration, and Related Agencies Appropriations Act, 2000 (Pub. L. 106-78, 113 Stat. 1135), and specified that it could be used to provide assistance to contract growers for losses in 1999. Section 802 of the Agriculture, Rural Development, Food and Drug Administration, and Related Agencies Appropriations Act, 2001 (Pub. L. 106-387; 114 Stat. 1549) amended Pub. L. 106-78 to extend the program to cover losses that occurred during the period January 1, 1999 through February 7, 2000.

Subpart I—American Indian Livestock Feed Program

The American Indian Livestock Feed Program operated under the authority of section 813(d)(1)(C) of the Agricultural Act of 1970 (7 U.S.C. 1427a), which gave the Secretary of Agriculture the authority to provide assistance to relieve distress caused by a natural disaster. Beginning in 1997, the program provided assistance to Federally-recognized Indian tribes to purchase livestock feed when a livestock feed emergency existed on tribal land. The program was allocated a budget of $12.5 million and operated until the funds were exhausted.

Subparts C, E and I will be removed and reserved to maintain the subpart structure for other provisions in the part.

7 CFR Part 1447—2000 Peanut Marketing Assistance Program

The 2000 Peanut Marketing Assistance Program was authorized by section 204(a) of the Agricultural Risk Protection Act of 2000 (Pub. L. 106-224; 114 Stat. 358). The program made payments to producers of 2000-crop quota and additional peanuts.

7 CFR Part 1464—Tobacco, Subpart C—Tobacco Loss Assistance Program 1999; Subpart D—Tobacco Disaster Assistance Program; Subpart E—Tobacco Loss Assistance Program 2000; Subpart F—Tobacco Loss Assistance Program 2001

Subpart C—Tobacco Loss Assistance Program 1999

The Tobacco Loss Assistance Program 1999 was authorized by section 803 of the Agriculture, Rural Development, Food and Drug Administration and Related Agencies Appropriations Act, 2000 (Pub. L. 106-78, 113 Stat. 1135), which provided that $328 million of CCC funds were to be used to make payments to States on behalf of persons whose 1999 quota or acreage allotment for tobacco was reduced from the 1998 crop year level due to a drop in the national marketing quota or poundage quota for a kind of tobacco.

Subpart D—Tobacco Disaster Assistance Program

The Tobacco Disaster Assistance Program was authorized by the Consolidated Appropriations Act, 2000 (Pub. L. 106-113, 113 Stat. 1501), which appropriated an additional $2.8 million for the Tobacco Loss Assistance Program of 1999 authorized by section 803 of the FY 2000 Agriculture Appropriations Act (Pub. L. 106-78, 113 Stat. 1135), provided that producers who suffered quality or quantity losses due to natural disasters on crops harvested and placed in a warehouse and not sold would also be eligible.

Subpart E—Tobacco Loss Assistance Program 2000

The Tobacco Loss Assistance Program 2000 was authorized by section 204(b) of the Agricultural Risk Protection Act of 2000 (Pub. L. 106-224; 114 Stat. 358), which provided that $340 million of CCC funds was to be made available to make direct payments to eligible persons on a farm for which the quantity of quota of eligible tobacco allotted to the farm was reduced from the 1999 crop year to the 2000 crop year.

Subpart F—Tobacco Loss Assistance Program 2001

The Tobacco Loss Assistance Program 2001 was authorized by section 774 of the Agriculture, Rural Development, Food and Drug Administration, and Related Agencies Appropriations Act, 2002 (Pub. L. 107-76). The program made payments to persons who owned, controlled or grew tobacco on a farm for which a basic quota or allotment for eligible tobacco was established for the 2001 crop year under part I of subtitle B of title III of the Agricultural Adjustment Act of 1938 (7 U.S.C. 1311 et seq.).

7 CFR Part 1469—Wool and Mohair Price Support Program

Subpart A—Recourse Loan Regulations for Mohair

The Mohair Recourse Loan Program was authorized by section 1126 of the Omnibus Consolidated and Emergency Supplemental Appropriations Act, 1999 (Pub. L. 105-277) and section 801 of the Agriculture, Rural Development, Food and Drug Administration, and Related Agencies Appropriations Act, 2000 (Pub. L. 106-78, 113 Stat. 1135). The program issued recourse loans for mohair that was produced during or before FY 1999 or 2000.

Subpart B—Wool and Mohair Market Loss Assistance Program

The Wool and Mohair Market Loss Assistance Program was authorized by section 204(d) of the Agricultural Risk Protection Act of 2000 (Pub. L. 106-224; 114 Stat. 358). The program made payments to producers of wool and mohair for the 1999 marketing year.

Subpart C—Wool and Mohair Market Loss Assistance Program II

The Wool and Mohair Market Loss Assistance Program II was authorized by section 814 of the Agriculture, Rural Development, Food and Drug Administration, and Related Agencies Appropriations Act, 2001 (Pub. L. 106-387, 114 Stat. 1549A-55). The program made payments to producers of wool and mohair for the 2000 marketing year.

7 CFR Part 1476—Cranberry Market Loss Assistance Payment Program

The Cranberry Market Loss Assistance Payment Program was authorized by section 816 of the Agriculture, Rural Development, Food and Drug Administration, and Related Agencies Appropriations Act, 2001 (Pub. L. 106-387, 114 Stat. 1549). The program made payments to cranberry growers for the 1999 crop.

7 CFR Part 1477—1998 Single-Year and Multi-Year Crop Loss Disaster Assistance Program

The 1998 Single-Year and Multi-Year Crop Loss Disaster Assistance Program was authorized by Sec. 1101 and 1102 of the Agriculture, Rural Development, Food and Drug Administration, and Related Agencies Appropriations Act, 1999 (Pub. L. 105-277, 112 Stat. 2681). The program made payments to producers who incurred losses in quantity or quality of their crops due to disasters for losses to 1998 crops, or losses occurring in at least 3 years for which payments were received for the period 1994 through 1998.

7 CFR Part 1478—1999 Crop Disaster Program

The 1999 Crop Disaster Program was authorized by section 801 of the Agriculture, Rural Development, Food and Drug Administration, and Related Agencies Appropriation Act, 2000 (Pub. L. 106-78, 113 Stat. 1135) and the Omnibus Consolidated Appropriations Act, 2000 (Pub. L. 106-113, 113 Stat. 1501). The program made payments to producers who incurred losses in quantity or quality of 1999 crops due to disasters.

7 CFR Part 1479—Harney County Flood Assistance

The Harney County Flood Assistance program was authorized by section 207 of the Consolidated Appropriations Act, 2000 (Pub. L. 106-113, 113 Stat. 1501). The program made payments to producers in Harney County, Oregon who suffered flood-related production losses during calendar year 1999.

Executive Order 12866

This final rule is issued in conformance with Executive Order 12866, has been determined to be not significant, and therefore has not been reviewed by the Office of Management and Budget.

Paperwork Reduction Act

This rule does not affect any information collections.

List of Subjects

7 CFR Part 759

Direct payments to small hog operations, Reporting and recordkeeping requirements.

7 CFR Part 777

Disaster payments 1990 crops, Peanuts, Soybeans, Sugar beets, Sugarcane.

7 CFR Part 783

Disaster assistance, Grant programs—agriculture.

7 CFR Part 1411

Oilseeds, Production flexibility fontracts.

7 CFR Part 1439

Animal feeds, Disaster assistance, Livestock, Reporting and recordkeeping requirements.

7 CFR Part 1447

Disaster assistance, Emergency assistance, Peanuts, Reporting and recordkeeping requirements.

7 CFR Part 1464

Imports, Importer assessments, Loan programs—agriculture, Price support programs, Reporting and recordkeeping requirements, Tobacco.

7 CFR Part 1469

Loan programs—agriculture, Mohair, Price support programs, Reporting and recordkeeping requirements.

7 CFR Part 1476

Cranberries, Loan programs—Price support programs, Reporting and recordkeeping requirements.

7 CFR Part 1477

Disaster assistance, Emergency assistance, Reporting and recordkeeping requirements.

7 CFR Part 1478

Disaster assistance, Emergency assistance, Reporting and recordkeeping requirements.

7 CFR Part 1479

Crop insurance, Disaster assistance, Floods, Reporting and recordkeeping requirements.

Accordingly, under the authorities cited in the preamble, 7 CFR chapters VII and XIV are amended as set forth below:

PARTS 759, 777, 783, 1411, 1447, 1469, 1476, 1477, 1478 and 1479—[REMOVED]

1. Remove parts 759, 777, 783, 1411, 1447, 1469, 1476, 1477, 1478 and 1479.

PART 1439—[AMENDED]

2. Remove and reserve part 1439, subparts C, E and I.

PART 1464—[AMENDED]

3. Remove part 1464, subparts C, D, E and F.

Signed at Washington, DC, on October 8, 2003.
James R. Little,
Administrator, Farm Service Agency, and Executive Vice President, Commodity Credit Corporation.

[FR Doc. 03-27086 Filed 10-27-03; 8:45 am]

BILLING CODE 3410-05-P